DEPARTMENT OF HEALTH AND HUMAN SERVICES

Administration for Community Living

National Legal Resource Center

SUMMARY: The Administration for Community Living (ACL) is announcing the application deadline and a single case deviation from maximum competition for the National Legal Assistance and Support grants under Section 420(a)(1) of the Older Americans Act (OAA) that constitute the National Legal Resource Center (NLRC). The NLRC program provides resource support to a national system of legal assistance and elder rights programs to improve the quality, cost effectiveness, and accessibility of legal assistance and elder rights protections provided to older people. The purpose of this deviation is to award a 4th year non-competing continuation to the NLRC project grantees with a three (3) year budget period set to expire May 31, 2014 so that: (1) Stakeholder input can be obtained on the resource support needs of legal and aging/disability service providers across the country; and (2) the current work under the NLRC can be better directed to support and advance ACL activities anticipated in FY15 in the area of elder rights and elder abuse prevention.

Program Name: National Legal Assistance and Support—National Legal Resource Center.

Award Amount: $655,462 ($143,347 to $185,693 per grantee).

Project Period: 6/1/2011 to 5/31/2015.

Award Type: Cooperative Agreement.

Statutory Authority: Title IV, Sections 420(a)(1) and 420(a)(2), of the OAA (42 U.S.C. 3032), as amended by the OAA Amendments of 2006, Public Law 109-365.

Catalog of Federal Domestic Assistance (CFDA) Number: 93.048 Discretionary Projects

DATES:

• Application Submission deadline: May 5, 2014.

• The anticipated budget period start date is June 1, 2014.

I. Program Description

The NLRC serves as a centralized national legal assistance support system for professionals and advocates working in legal services and aging/disability services networks. The NLRC provides a wide range of resource support to enhance the ability of States, area agencies on aging, and legal providers to deliver high quality/high impact legal assistance to older persons in the most social or economic need. Prior to the creation of the NLRC in 2008, the existing legal assistance support system was comprised of four (4) independent legal resource centers operating within a decentralized and fragmented legal assistance support system. It was determined that the decentralized support system presented various barriers to providing effective resource support to aging/disability and legal networks. Overcoming these barriers necessitated the creation of a more focused and unified resource support delivery structure. The current centralized configuration of the NLRC presents significant advantages in subject matter coverage and overall provider accessibility over the previous decentralized model.

II. Justification for the Exception to Competition

Since 2008, NLRC partners have maximized funding by collaborating in reaching target audiences and providing training, case consultation, and resource materials on a wide range of legal issues. Through collaborations, interlocking work plans, and the leveraging of organizational resources, NLRC partners have achieved national resource support coverage in an increasingly challenging service delivery environment. Those challenges will continue to intensify as priority legal issues such as ACA implementation; housing accessibility, income maintenance, elder abuse/financial abuse prevention; advance directives/person centered planning; and supported decision making alternatives to guardianship continue to demand comprehensive and accessible national legal resource support.

At this stage in the NLRC's programmatic evolution it is important to assess the NLRC's effectiveness in meeting these increasing challenges. To this end, ACL will accomplish two goals this year: (1) Obtain stakeholder input on the resource support needs of legal and aging/disability service providers and the ability to meet those needs in the current NLRC configuration; and (2) establish how best to incorporate the current work under the NLRC with the intensified ACL activities anticipated in FY 15 in elder rights and elder abuse prevention.

III. Eligible Applicants

Incumbent NLRC grantees with award expiration dates of 5/31/14.

IV. Evaluation Criteria

Information previously provided in semi-annual reports, as well as information in the non-competing extension application will be considered to determine satisfactory progress of the grantee project and ensure that proposed activities are within the approved scope and budget of the grant. Areas that will be evaluated include:

A. Project Relevance & Current Need

B. Approach

C. Budget

D. Project Impact

E. Organizational Capacity

V. Application and Submission Requirements

A. SF 424—Application for Federal Assistance

B. SF 424A—Budget Information

C. Separate Budget Narrative/Justification

D. SF 424B—Assurances. Note: Be sure to complete this form according to instructions and have it signed and dated by the authorized representative (see item 18d of the SF 424).

E. Lobbying Certification

F. Program narrative—no more than 10 pages.

G. Work Plan

H. Incumbent grantees will be required to access the non-competing application kit in GrantSolutions.gov to submit all materials for this application.

VI. Application Review Information

Applications will be objectively reviewed by Federal staff utilizing the criteria listed above in Section III.

VII. Agency Contact

For further information or comments regarding this program expansion supplement, contact Omar Valverde, U.S. Department of Health and Human Services, Administration for Community Living, Administration on Aging, Office of Elder Rights, One Massachusetts Avenue NW., Washington, DC 20001; telephone (202) 357-3514; fax (202) 357-3549; email omar.valverde@acl.hhs.gov.

Dated: March 27, 2014.
Kathy Greenlee,
Administrator and Assistant Secretary for Aging.

[FR Doc. 2014-07327 Filed 4-1-14; 8:45 am]

BILLING CODE 4154-01-P